DEPARTMENT OF HEALTH AND HUMAN SERVICES

National Institutes of Health

Proposed Collection; 60-Day Comment Request; International Research Fellowship Award Program of the National Institute on Drug Abuse (NIDA)

AGENCY: National Institutes of Health, HHS.

ACTION: Notice.

SUMMARY: In compliance with the requirement of the Paperwork Reduction Act of 1995 to provide opportunity for public comment on proposed data collection via application forms, the National Institute on Drug Abuse (NIDA), the National Institutes of Health (NIH) will publish periodic summaries of proposed collections to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Lindsey Friend, Director, Research Training Program Officer, NIDA International Program, National Institute on Drug Abuse, National Institutes of Health, 3WFN MSC 6024, 301 North Stonestreet Avenue, Bethesda, Maryland 20892 or call non-toll-free number (301) 402-1428 or Email your request, including your address to: lindsey.friend@nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: International Research Fellowship Award Program of the National Institute on Drug Abuse (NIDA), 0925-0733, expiration date 03/31/2022 EXTENSION, National Institute on Drug Abuse (NIDA), National Institutes of Health (NIH).

Need and Use of Information Collection: These programs offer grants and traineeships necessary for growing the biomedical researcher workforce, and the diversity in this workforce. The application forms will collect information of applicants for selecting those that would benefit most effectively from the programs. NIDA is requesting approval from OMB for application forms to be used by these programs that will recruit pre-college through post-doctoral underrepresented individuals and individuals of special populations into the research programs of the Institute for research training and research development, for forging mentor/mentee relationships and networking between newly funded underrepresented researchers and experienced investigators funded by NIDA; and for a fellowship program to train new researchers, and support experienced researchers of other nations, in research to advance the biomedical and behavioral science of drug abuse and addiction while fostering multinational research in this disease area. The application forms will be web-based.

OMB approval is requested for 3 years. There are no costs to respondents other than their time. The total annualized burden hours are 33.

Estimated Annualized Burden Hours
Form name | Type of respondent | Number of respondents | Number of responses per respondent | Average time per response (in hours) | Total annual burden hour
A. Application | Applicant Scientists | 25 | 1 | 1 | 25
B. Mentor Information and Agreement | Scientists | 25 | 1 | 20/60 | 8
Totals |  |  | 50 |  | 33

Dated: February 9, 2022.
Lanette A. Palmquist,
Project Clearance Liaison, National Institute on Drug Abuse, National Institutes of Health.

[FR Doc. 2022-03089 Filed 2-11-22; 8:45 am]

BILLING CODE 4140-01-P